DEPARTMENT OF DEFENSE

Office of the Secretary

[Transmittal No. 24-50]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-50, Policy Justification, and Sensitivity of Technology.

Dated: January 8, 2026.
Stephanie J. Bost,
Alternate OSD Federal Register Liaison Officer, Department of Defense.

BILLING CODE 6001-FR-P

BILLING CODE 6001-FR-C

Transmittal No. 24-50

Notice of Proposed Issuance of Letter of Offer Pursuant to Section 36(b)(1) of the Arms Export Control Act, as amended

(i) Prospective Purchaser: Government of Egypt

(ii) Total Estimated Value:

Major Defense Equipment * | $200 million
Other | $425 million
TOTAL | $625 million

Funding Source: Foreign Military Financing

(iii) Description and Quantity or Quantities of Articles or Services under Consideration for Purchase: The Government of Egypt has requested to buy equipment and services including the following to modernize its four fast missile craft (FMC):

Major Defense Equipment (MDE):

Four (4) Component Based Total Ship System, 21st Century (COMBATSS-21) combat management systems

Non-MDE:

Also included are air and surface surveillance radars; chaff decoy systems; electro-optical/infrared sensor systems; electronic warfare systems; navigation data distribution systems; communications intelligence systems; fire control radar systems; 76 mm gun upgrades; and other related elements of logistics and program support.

(iv) Military Department: Navy (EG-P-LGY)

(v) Prior Related Cases, if any: EG-P-SBU

(vi) Sales Commission, Fee, etc., Paid, Offered, or Agreed to be Paid: None

(vii) Sensitivity of Technology Contained in the Defense Article or Defense Services Proposed to be Sold: See Attached Annex

(viii) Date Report Delivered to Congress: February 4, 2025

* as defined in Section 47(6) of the Arms Export Control Act.

POLICY JUSTIFICATION

Egypt—Fast Missile Craft Modernization

The Government of Egypt has requested to buy equipment and services including four (4) Component Based Total Ship System, 21st Century (COMBATSS-21) combat management systems to modernize its four fast missile craft (FMC). Also included are air and surface surveillance radars; chaff decoy systems; electro-optical/infrared sensor systems; electronic warfare systems; navigation data distribution systems; communications intelligence systems; fire control radar systems; 76 mm gun upgrades; and other related elements of logistics and program support. The estimated total cost is $625 million.

This proposed sale will support United States (U.S.) foreign policy and national security objectives by helping to improve the security of a friendly country that continues to be an important force for political stability and economic growth I the Middle East.

The proposed sale will improve Egypt's capability to meet current and future threats by increasing the tactical and operational capabilities of the Egyptian Navy to support strategic maritime security objectives. Egypt will have no difficulty absorbing this equipment into its armed forces.

The proposed sale of this equipment and support will not alter the basic military balance in the region.

The principal contractors will be Lockheed Martin, located in Manassas, VA, and L3Harris, located in Northampton, MA. At this time, the U.S. Government is not aware of any offset agreement proposed in connection with this potential sale. Any offset agreement will be defined in negotiations between the purchaser and the contractor.

Implementation of this proposed sale will not require the assignment of any additional U.S. Government or contractor representatives to Egypt.

There will be no adverse impact on U.S. defense readiness as a result of this proposed sale.

Transmittal No. 24-50

Notice of Proposed Issuance of Letter of Offer Pursuant to Section 36(b)(1) of the Arms Export Control Act

Annex

Item No. vii

(vii) Sensitivity of Technology:

1. The Component Based Total Ship System, 21st Century (COMBATSS-21) is an Aegis-derived combat management system. It is the backbone of the ship's mission system and integrates the radar, electro-optical infrared cameras, gun fire control system, countermeasures, and short-range anti-air missiles to provide the decision support functions to designate in real time the optimum weapon system for the detected threat.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that Egypt can provide substantially the same degree of protection for the sensitive technology being released as the U.S. Government. This sale is necessary in furtherance of the U.S. foreign policy and national security objectives outlined in the Policy Justification.

5. All defense articles and services listed in this transmittal have been authorized for release and export to the Government of Egypt.

[FR Doc. 2026-00443 Filed 1-12-26; 8:45 am]

BILLING CODE 6001-FR-P